DEPARTMENT OF COMMERCE

Foreign-Trade Zones Board

[B-9-2022]

Proposed Foreign-Trade Zone—Plaquemines Parish, Louisiana Under Alternative Site Framework

An application has been submitted to the Foreign-Trade Zones (FTZ) Board by the Plaquemines Port, Harbor & Terminal District (PPHTD) to establish a foreign-trade zone in Plaquemines Parish, Louisiana, under the alternative site framework (ASF) adopted by the FTZ Board (15 CFR Sec. 400.2(c)). The ASF is an option for grantees for the establishment or reorganization of zones and can permit significantly greater flexibility in the designation of new “subzones” or “usage-driven” FTZ sites for operators/users located within a grantee's “service area” in the context of the FTZ Board's standard 2,000-acre activation limit for a zone project. The application was submitted pursuant to the provisions of the Foreign-Trade Zones Act, as amended (19 U.S.C. 81a-81u), and the regulations of the FTZ Board (15 CFR part 400). It was formally docketed on March 22, 2022. The applicant is authorized to make the proposal under Louisiana Revised Statues, Title 51, Sections 61-65.

The proposed zone would be the second zone for the New Orleans U.S. Customs and Border Protection port of entry. The existing zone is as follows: FTZ 2, New Orleans (Grantee: Port of New Orleans, Board Order 12, July 16, 1946).

The applicant's proposed service area under the ASF would be Plaquemines Parish, Louisiana. If approved, the applicant would be able to serve sites throughout the service area based on companies' needs for FTZ designation. The application indicates that the proposed service area is within and adjacent to the New Orleans Customs and Border Protection port of entry.

The proposed zone would include a “magnet” site: Proposed Site 1 (276.6 acres)—PPHTD Parcel No. 8337286, located on Highway 23 near Hermitage Road in Port Sulfur. The ASF allows for the possible exemption of one magnet site from the “sunset” time limits that generally apply to sites under the ASF, and the applicant proposes that Site 1 be so exempted.

The application indicates a need for zone services in the Plaquemines Parish, Louisiana, area. Several firms have indicated an interest in using zone procedures for warehousing/distribution activities for a variety of products. Specific production approvals are not being sought at this time. Such requests would be made to the FTZ Board on a case-by-case basis.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary and sent to: ftz@trade.gov. The closing period for their receipt is May 27, 2022. Rebuttal comments in response to material submitted during the foregoing period may be submitted during the subsequent 15-day period to June 13, 2022.

A copy of the application will be available for public inspection in the “Online FTZ Information Section” section of the FTZ Board's website, which is accessible via www.trade.gov/ftz.

For further information, contact Camille Evans at Camille.Evans@trade.gov.

Dated: March 22, 2022.
Andrew McGilvray,
Executive Secretary.

[FR Doc. 2022-06404 Filed 3-25-22; 8:45 am]

BILLING CODE 3510-DS-P